NATIONAL AERONAUTICS AND SPACE ADMINISTRATION

[Notice: (10-148)]

NASA Advisory Council; NASA Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee of the NASA Advisory Council.

DATES: Tuesday, December 14, 2010, 1:30 p.m.-4:30 p.m., Local Time.

ADDRESSES: NASA Headquarters, 300 E Street, SW., Glennan Conference Center Room 1Q39, Washington, DC 20546.

FOR FURTHER INFORMATION CONTACT: Mr. John Emond, Office of Chief Technologist, National Aeronautics and Space Administration, Washington, DC 20546. Phone 202-358-1686, fax: 202-358-3878, john.l.emond@nasa.gov.

SUPPLEMENTARY INFORMATION: The agenda for the meeting includes a briefing from the NASA Commercial Space Team, a briefing on activities of the Education and Public Outreach Committee, and an administrative discussion on Committee plans for the coming year.

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Commercial Space Committee meeting in the Glennan Conference Center room 1Q39 before receiving an access badge. All non-U.S. citizens must fax a copy of their passport, and print or type their name, current address, citizenship, company affiliation (if applicable) to include address, telephone number, and their title, place of birth, date of birth, U.S. visa information to include type, number, and expiration date, U.S. Social Security Number (if applicable), and place and date of entry into the U.S., fax to John Emond, NASA Advisory Council Commercial Space Committee Executive Secretary, FAX: (202) 358-3878, by no later than Wednesday December 7, 2010. To expedite admittance, attendees with U.S. citizenship can provide identifying information 3 working days in advance by contacting John Emond via email at john.l.emond@nasa.gov or by telephone at (202) 358-1686 or fax: (202) 358-3878.

Dated: November 15, 2010.
P. Diane Rausch,
Advisory Committee Management Officer, National Aeronautics and Space Administration.

[FR Doc. 2010-29142 Filed 11-18-10; 8:45 am]

BILLING CODE P